DEPARTMENT OF EDUCATION

National Assessment Governing Board

National Assessment Governing Board; Meeting; Correction

AGENCY: National Assessment Governing Board, Department of Education.

ACTION: Notice; correction.

SUMMARY: The National Assessment Governing Board (Governing Board) published a document in the Federal Register announcing the schedule and proposed agenda of the May 18-19, 2023 quarterly meeting of the Governing Board. The meeting agenda has been revised to reflect the following changes to the Thursday and Friday sessions of the Governing Board meeting.

FOR FURTHER INFORMATION CONTACT: Munira Mwalimu at (202) 357-6906.

SUPPLEMENTARY INFORMATION: The original published notice, volume 88, no. 83, pages 26530-26531 (2 pages), May, 1, 2023, FR Doc. 2023-09114 filed on Friday, April 28, 2023, announced that the Measuring Socioeconomic Status session would be held on Thursday, May 18, 2023, from 2:15 p.m. until 3:30 p.m., and the Linking Studies and NAEP session would be held on Friday, May 19, 2023, from 1:45 p.m. until 2:45 p.m. The agenda has been revised to reflect new times for these meetings. The Linking Studies and NAEP session will now be held on Thursday, May 18, 2023, from 2:15 p.m. until 3:30 p.m., and the Measuring Socioeconomic Status session will be held on Friday, May 19, 2023, from 1:45 p.m. until 3:00 p.m. The meeting will end at 3:00 p.m. which is 15 minutes later than the originally published end time of 2:45 p.m.

Registration: Members of the public may attend all open sessions of the Governing Board's May 18-19, 2023, meetings in-person or virtually. A link to register for both the in-person and virtual attendance for the open sessions and instructions for how to register will be posted on the Governing Board's website at www.nagb.gov no later than 5 business days prior to each meeting. Registration is required to join the meeting virtually.

Public Comment: Written comments related to the work of the Governing Board and its committees may be submitted electronically or in hard copy to the attention of the Executive Officer/Designated Federal Official (DFO) via email at Munira.Mwalimu@ed.gov no later than 10 business days prior to the meeting. Written comments should be directed to the DFO as they relate to committee and Board meeting work and should reference the relevant agenda item.

Access to Records of the Meeting: Pursuant to 5 U.S.C. 1009(b), the public may inspect the May 18-19, 2023, meeting materials at www.nagb.gov, which will be made available no later than five business days prior to each meeting. The public may also inspect the meeting materials and other Governing Board records at 800 North Capitol Street NW, Suite 825, Washington, DC 20002, by emailing Munira.Mwalimu@ed.gov to schedule an appointment. The official verbatim transcripts of the open meeting sessions will be available for public inspection no later than 30 calendar days following each meeting and will be posted on the Governing Board's website. Requests for the verbatim transcriptions may be made via email to the DFO noted above.

Reasonable Accommodations: The meeting location is accessible to individuals with disabilities. If you will need an auxiliary aid or service to participate in the meeting (e.g., interpreting service, assistive listening device, or materials in an alternate format), notify the DFO listed in this notice no later than ten working days prior to each meeting date. Although we will attempt to meet a request received after that date, we may not be able to make available the requested auxiliary aid or service because of insufficient time to arrange requests.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Lesley A. Muldoon,
Executive Director, National Assessment Governing Board (NAGB), U.S. Department of Education.

[FR Doc. 2023-09984 Filed 5-11-23; 8:45 am]

BILLING CODE 4000-01-P